DEPARTMENT OF HOMELAND SECURITY

Office of the Secretary

Privacy Act of 1974; Transfer and Retirement of Department of Homeland Security Federal Emergency Management Agency System of Records

AGENCY: Privacy Office, DHS.

ACTION: Notice of transfer of a Privacy Act system of records notice.

SUMMARY: In accordance with the Privacy Act of 1974 the Department of Homeland Security is giving notice that it proposes to transfer Department of Homeland Security Federal Emergency Management Agency National Disaster Medical System Medical Professional Credentials System of Records, October 13, 2007, into an existing Department of Health and Human Services System of Records, Department of Heath and Human Services—09-90-0040 National Disaster Medical System Patient Treatment and Tracking System of Records, June 26, 2007. The Department of Homeland Security Federal Emergency Management Agency National Disaster Medical Reserve System was part of the National Disaster Medical System. The National Disaster Medical System was transferred to the Department of Health and Human Services in December 2006, pursuant to the Pandemic and All Hazards Preparedness Act Public Law, 109-417.

DATES: Effective Date: December 23, 2009.

FOR FURTHER INFORMATION CONTACT: For general questions please contact: Delia Davis (202-646-3808), Privacy Officer, Federal Emergency Management Agency, Department of Homeland Security, Washington, DC 20472. For privacy issues please contact: Mary Ellen Callahan (703-235-0780), Chief Privacy Officer, Privacy Office, U.S. Department of Homeland Security, Washington, DC 20528.

SUPPLEMENTARY INFORMATION: Pursuant to the provisions of the Privacy Act of 1974, 5 U.S.C. 552a, the Department of Homeland Security (DHS) Federal Emergency Management Agency (FEMA) is giving notice that it proposes to transfer DHS/FEMA/NDMS—1 National Disaster Medical System Medical Professional Credentials System of Records (71 FR 60554, October 13, 2006) into an existing Department of Health and Human Services (HHS) System of Records, HHS-09-90-0040 National Disaster Medical System Patient Treatment and Tracking System of Records (72 FR 35052, June 26, 2007).

DHS is transferring the records from DHS/FEMA/NDMS—1 National Disaster Medical System Medical Professional Credentials System of Records (71 FR 60554, October 13, 2006) to HHS. DHS will then retire the system and no longer collect or maintain records. This system was originally established to collect potential and current National Disaster Medical Reserve System medical providers and Urban Search and Rescue medical providers for three primary purposes: hiring decisions; certification/recertification; and privileging.

The DHS/FEMA National Disaster Medical Reserve System was part of the National Disaster Medical System. The National Disaster Medical System was transferred to HHS in December 2006, pursuant to the Pandemic and All Hazards Preparedness Act Public Law 109-417.

Transferring and retiring this system of records notice will have no adverse impacts on individuals, but will promote the overall streamlining and management of DHS Privacy Act systems of records.

Dated: November 13, 2009.
Mary Ellen Callahan,
Chief Privacy Officer, Department of Homeland Security.

[FR Doc. E9-28006 Filed 11-20-09; 8:45 am]

BILLING CODE 9110-17-P